DEPARTMENT OF ENERGY

[GDO Docket No. EA-526]

Application for Authorization To Export Electric Energy; Enel Trading North America, LLC

AGENCY: Grid Deployment Office, Department of Energy.

ACTION: Notice of application.

SUMMARY: Enel Trading North America, LLC (the Applicant or ETNA) has applied for authorization to transmit electric energy from the United States to Mexico pursuant to the Federal Power Act.

DATES: Comments, protests, or motions to intervene must be submitted on or before December 22, 2025.

ADDRESSES: Comments, protests, motions to intervene, or requests for more information should be addressed by electronic mail to Electricity.Exports@hq.doe.gov.

FOR FURTHER INFORMATION CONTACT: Marina Fennel, (240) 702-6156, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On June 5, 2025, ETNA filed an application (Application or App.) for authorization to transmit electric energy from the United States to Mexico for a term of five years. App. at 1. The application filed is for a new export authorization, following the applicant's notification to the DOE of the expiration of the applicant's previous EA-460 on November 19, 2023.

According to the Application, ETNA is a power marketer located in Andover, Massachusetts. App. at 1. ETNA states that it is “a wholly owned subsidiary of Enel Green Power North America, Inc., a Delaware corporation[.]” Id. ETNA represents that the Federal Energy Regulatory Commission (FERC) “authorized ETNA to engage in the sale of energy, capacity, and ancillary services at market-based rates.” Id. at 1-2.

The Applicant states that it “is not a franchised public utility with transmission or distribution systems and does not have captive customers.” App. at 1. ETNA further states that the electricity exported “would be surplus energy purchased in wholesale markets using bilateral, voluntary transactions.” App. at 3. The Applicant thus asserts that “any such energy would be surplus to the needs of the relevant system, and the export . . . would not impair the adequacy of electric power supply within the United States[.]” Id. at 3-4.

ETNA further asserts that it “will not impede or tend to impede regional coordination of electric utility planning or operations.” App. at 4. The Applicant “agrees to abide by the export limits contained in the relevant authorization of any transmission facility over which it exports energy to Mexico.” Id. The Applicant states that its export transactions “will be completed using all applicable procedures and/or market structures and coordinated with relevant parties as required pursuant to the reliability standards and market rules as implemented by [the North American Electric Reliability Corporation], FERC and all affected transmission operators.” Id. at 5.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning ETNA's Application should be clearly marked with GDO Docket No. EA-526. Additional copies are to be provided directly to General Counsel, Enel North America, Inc. 100 Brickstone Square, Suite 300, Andover, MA 01810, generalcounsel@enel.com.

A final decision will be made on the requested authorization after DOE reviews the action pursuant to the National Environmental Policy Act Implementing Procedures (June 2025), including 10 CFR part 1021, and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority

This document of the Department of Energy was signed on November 14, 2025, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 19, 2025.
Treena V. Garrett,
Federal Register Liaison Officer, U.S. Department of Energy.

[FR Doc. 2025-20605 Filed 11-20-25; 8:45 am]

BILLING CODE 6450-01-P